DEPARTMENT OF HEALTH AND HUMAN SERVICES

National Institute of Environmental Health Sciences (NIEHS); Workshop: Children's Environmental Health: Past, Present and Future Research Strategies

AGENCY: National Institutes of Health (NIH), HHS.

ACTION: Workshop Announcement.

SUMMARY: On January 22-23, 2007, the NIEHS is hosting a workshop titled “Children's Environmental Health Research: Past, Present, and Future.” The goal of this workshop is to develop new strategies for research, exposure and effects monitoring, intervention and prevention in children's environmental health. Specific objectives are to maximize the effectiveness of scientific research—basic science, exposure monitoring/biomonitoring, epidemiology, toxicology, clinical medicine and multidisciplinary studies—and to enhance the translation of research to the bedside, to the community and to public policy. This meeting is open to the public with attendance limited only by the space available. Time will be set aside for public discussion. Additional information about the workshop and on-line registration are available from the NIEHS Web site at http://www.apps.niehs.nih.gov/conferences/od/cehr/.

The first day will begin with discussions of two case studies that demonstrate the successful implementation of evidence-based intervention/prevention strategies that became possible once links between environmental exposures and a disease in children had been identified. The first case study will focus on lead and neurotoxicity. Findings on the adverse effects of lead on neurodevelopment ultimately led to efforts to reduce exposures to lead. Asthma will be used as a second case study because it provides a clear example of environmental triggers and some science-based prevention/intervention strategies that are already being implemented. The second day of the workshop will focus on applying lessons learned from the two “success” case studies to two children's disorders that appear to have environmental etiologies but are less well understood: disorders of lipid and carbohydrate metabolism and attention deficit/hyperactivity disorder (ADHD).

A discussion will follow each case study presentation to consider the opportunities, the barriers and the design challenges that confront future clinical, toxicological, epidemiological, exposure monitoring, and basic research in children's environmental health. Specific topics include:

• Past approaches to research translation to see what worked and what failed to work.

• The critical mass of researchers and mix of disciplines needed to most efficiently advance research in children's environmental health.

• Biomarkers of exposure, susceptibility, or subclinical dysfunction.

• The use of “omics” technologies that might be incorporated into future toxicological, epidemiological and/or biomonitoring studies to enhance their sensitivity and efficiency.

• Is there a point at which the use of new scientific tools might slow the pace of progress?

• New approaches to accelerating the translation of science to treatment, prevention, and the remediation of environmental risks to children's health.

• Potential study populations at uniquely high risk of disease.

• Data resources—records, disease registries, well-characterized cohort populations, tissue banks, or stored DNA—in the U.S. or abroad that might facilitate future studies.

• New partnerships in research.

DATES: The workshop will be held on January 22-23, 2007, at the NIEHS in Research Triangle Park, North Carolina. Individuals who plan to attend are encouraged to register online at http://www.apps.niehs.nih.gov/conferences/od/cehr/ as soon as possible because seating is limited. Please note that a photo ID is required to access the NIEHS campus. Persons needing special assistance, such as sign language interpretation or other reasonable accommodation in order to attend, should contact 919-541-2475 voice, 919-541-4644 TTY (text telephone), through the Federal TTY Relay System at 800-877-8339, or by e-mail to niehsoeeo@niehs.nih.gov. Requests should be made at least 7 days in advance of the event.

ADDRESSES: The workshop will be held in the Rodbell Auditorium, Rall Building at the NIEHS, 111 T.W. Alexander Drive, Research Triangle Park, NC, 27709.

FOR FURTHER INFORMATION CONTACT: Any correspondence should be submitted to Dr. Kristina Thayer (NIEHS, P.O. Box 12233, MD B2-01, Research Triangle Park, NC, 27709; telephone: 919-541-5021 or e-mail: thayer@niehs.nih.gov).

Dated: November 9, 2006.
Samuel H. Wilson,
Deputy Director, National Institute of Environmental Health Sciences and National Toxicology Program.

[FR Doc. E6-19807 Filed 11-22-06; 8:45 am]

BILLING CODE 4140-01-P